DEPARTMENT OF DEFENSE

Department of the Navy

Board of Advisors to the Presidents of the Naval Postgraduate School and the Naval War College; Notice of Federal Advisory Committee Meeting

AGENCY: Department of the Navy, Board of Advisors to the Presidents of the Naval Postgraduate School and the Naval War College, Department of Defense

ACTION: Notice of Federal Advisory Committee meeting.

SUMMARY: The Department of Defense (DoD) is publishing this notice to announce that the following Federal Advisory Committee meeting of the Board of Advisors (BOA) to the Presidents of the Naval Postgraduate School (NPS) and the Naval War College (NWC) will take place.

DATES: Day 1—Open to the public Wednesday, October 18, 2017, from 9:00 a.m. to 5 p.m. Day 2—Open to the public Thursday, October 19, 2017, from 9:00 a.m. to 12 p.m.

ADDRESSES: The meeting will be held at 3003 Washington Boulevard, Arlington, VA.

FOR FURTHER INFORMATION CONTACT: Jacquelyn (Jaye) Panza, 831-656-2514 (Voice), 831-656-2337 (Facsimile), jpanza@nps.edu (Email). Mailing address is Naval Postgraduate School, 1 University Circle, Monterey, CA 93943-5001. Web site: https://my.nps.edu/web/board-of-advisors/home. The most up-to-date changes to the meeting agenda may be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The Committee examines the effectiveness with which the NPS and the NWC are accomplishing its missions.

Agenda: Board of Advisors to the Presidents of the Naval Postgraduate School and the Naval War College Committee (NPS/NWC BOA) and its two subcommittees will be held. This meeting will be open to the public. For more information about the Committee, please visit http://my.nps.edu/web/board-of-advisors. 1. October 18, 2017, 9:00 a.m.-12:00 p.m.: The NPS BOA Subcommittee will meet to inquire into programs and curricula; instruction; administration; state of morale of the student body, faculty, and staff; fiscal affairs of NPS. The committee will review any other matters relating to the operations of the NPS as the board considers pertinent. 2. October 18, 2017, 1:00 p.m.-5:00 p.m.: General deliberations and inquiry by the NWC BOA Subcommittee into NWC programs and mission priorities; re-accreditation review; administration; military construction; leader development continuum; defense planning guidance efforts; and any other matters relating to the operations of the NWC as the board considers pertinent. 3. October 19, 2017, 9:00 a.m.-12:00 p.m.: The NPS and NWC Subcommittees will provide out briefs from their meetings to the NPS/NWC BOA Committee after which the Committee will discuss topics raised during the subcommittee sessions.

Meeting Accessibility: Meeting room is fully accessible to persons with disabilities in compliance with applicable disability rights laws.

Written Statements: For access, information, or to send written statements for consideration at the committee meeting contact Ms. Jaye Panza, Designated Federal Official, Naval Postgraduate School, 1 University Circle, Monterey, CA 93943-5001 or by fax 831-656-2337 by October 12, 2017.

Dated: September 12, 2017.
A.M. Nichols,
Lieutenant Commander, Judge Advocate General's Corps, U.S. Navy, Federal Register Liaison Officer.

[FR Doc. 2017-19764 Filed 9-15-17; 8:45 am]

BILLING CODE 3810-FF-P